NATIONAL SCIENCE FOUNDATION

Proposal Review Panel for Chemistry; Notice of Meeting

In accordance with the Federal Advisory Committee Act (Pub. L. 92-463 as amended), the National Science Foundation announces the following meeting:

Name: Site visit of the Center for Chemical Innovation (CCI) at The California Institute of Technology by NSF Division of Chemistry (1191).

Dates & Times: May 9, 2010; 8 p.m.-9 p.m., May 10, 2010; 8 a.m.-9 p.m., May 11, 2010; 8 a.m.-1 p.m.

Place: Department of Chemistry, California Institute of Technology, Pasadena, CA 91125.

Type of Meeting: Part-open.

Contact Person: Dr. William Brittain, Program Director, Chemistry Centers Program, Division of Materials Research, Room 1055, National Science Foundation, 4201 Wilson Boulevard, Arlington, VA 22230, Telephone (703) 292-5039.

Purpose of Meeting: To provide advice and recommendations concerning Phase II award.

Agenda

Sunday, May 9, 2010

8 p.m.-9 p.m. Closed—Panel Briefing.

Monday, May 10, 2010

8 a.m.-11:25 a.m. Open—CCI Presentation.

11:25 a.m.-12:45 p.m. Closed—Executive Session.

12:45 p.m.-5 p.m. Open—CCI Presentation.

5 p.m.-9 p.m. Closed—Executive Session/Dinner.

Tuesday, May 11, 2010

8 a.m.-9 a.m. Open—CCI Presentation.

9 a.m.-1 p.m. Closed—Executive Session/Lunch.

Reason for Closing: The work being reviewed may include information of a proprietary or confidential nature, including technical information; financial data, such as salaries and personal information concerning individuals associated with the proposals. These matters are exempt under 5 U.S.C. 552 b(c), (4) and (6) of the Government in the Sunshine Act.

Dated: April 13, 2010.
Susanne Bolton,
Committee Management Officer.

[FR Doc. 2010-8723 Filed 4-15-10; 8:45 am]

BILLING CODE 7555-01-P